SMALL BUSINESS ADMINISTRATION

[Declaration of Disaster #3237]

State of Georgia

As a result of the President's major disaster declaration on February 15, 2000, I find that Colquitt, Grady, Mitchell, and Tift Counties in the State of Georgia constitute a disaster area due to damages caused by severe storms and tornadoes that occurred on February 14, 2000. Applications for loans for physical damage as a result of this disaster may be filed until the close of business on April 15, 2000 and for economic injury until the close of business on November 15, 2000 at the address listed below or other locally announced locations: U.S. Small Business Administration, Disaster Area 2 Office, One Baltimore Place, Suite 300, Atlanta, GA 30308.

In addition, applications for economic injury loans from small businesses located in the following contiguous counties may be filed until the specified date at the above location: Baker, Berrien, Brooks, Cook, Decatur, Dougherty, Irwin, Thomas, Turner, and Worth Counties in Georgia, and Gadsden and Leon Counties in Florida.

The interest rates are:

| Percent
For Physical Damage:
Homeowners with credit available elsewhere | 7.625
Homeowners without credit available elsewhere | 3.812
Businesses with credit available elsewhere | 8.000
Businesses and non-profit organizations without credit available elsewhere | 4.000
Others (including non-profit organizations) with credit available elsewhere | 6.750
For Economic Injury:
Businesses and small agricultural cooperatives without credit available elsewhere | 4.000

The number assigned to this disaster for physical damage is 323712, and for economic injury the numbers are 9G7000 for Georgia and 9G7100 for Florida.

(Catalog of Federal Domestic Assistance Program Nos. 59002 and 59008.)

Dated: February 18, 2000.
Bernard Kulik,
Associate Administrator for Disaster Assistance.

[FR Doc. 00-4599 Filed 2-25-00; 8:45 am]

BILLING CODE 8025-01-P